SECURITIES AND EXCHANGE COMMISSION

17 CFR Part 240

[Release No. 34-77172; File No. S7-27-15]

RIN 3235-AL55

Transfer Agent Regulations; Extension of Comment Period

AGENCY: Securities and Exchange Commission.

ACTION: Advance notice of proposed rulemaking; Concept release; Request for comment; extension of comment period.

SUMMARY: The Securities and Exchange Commission (“Commission”) is extending the comment period for the Advance Notice of Proposed Rulemaking, Concept Release and Request for Comment with respect to transfer agent regulations. The original comment period is scheduled to end on February 29, 2016. The Commission is extending the time period in which to provide the Commission with comments by 45 days, until April 14, 2016. This action will allow interested persons additional time to analyze the issues and prepare their comments.

DATES: Comments on the document published December 31, 2015 (80 FR 81948) must be in writing and received by April 14, 2016.

ADDRESSES: Comments may be submitted by any of the following methods:

Electronic Comments

• Use the Commission's Internet comment form (http://www.sec.gov/rules/concept.shtml);

• Send an email to rule-comments@sec.gov. Please include File Number S7-27-15 on the subject line; or

• Use the Federal eRulemaking Portal (http://www.regulations.gov). Follow the instructions for submitting comments.

Paper Comments

• Send paper comments to: Brent J. Fields, Secretary, Securities and Exchange Commission, 100 F Street NE., Washington, DC 20549-1090.

All submissions should refer to File Number S7-27-15. This file number should be included on the subject line if email is used. To help us process and review your comments more efficiently, please use only one method. The Commission will post all comments on the Commission's Internet Web site (http://www.sec.gov/rules/concept.shtml). Comments are also available for Web site viewing and printing in the Commission's Public Reference Room, 100 F Street NE., Washington, DC 20549, on official business days between the hours of 10:00 a.m. and 3:00 p.m. All comments received will be posted without change; the Commission does not edit personal identifying information from submissions. You should submit only information that you wish to make publicly available.

FOR FURTHER INFORMATION CONTACT: Moshe Rothman, Branch Chief, Thomas Etter, Special Counsel, Catherine Whiting, Special Counsel, Mark Saltzburg, Special Counsel, or Elizabeth de Boyrie, Counsel, Office of Clearance and Settlement, Division of Trading and Markets, Securities and Exchange Commission, 100 F Street NE., Washington, DC 20549-7010 at (202) 551-5710.

SUPPLEMENTARY INFORMATION: The Commission has requested comment in its Advance Notice of Proposed Rulemaking, Concept Release and Request for Comment (“Release”) with respect to transfer agent regulations.¹ The Release identifies and seeks comment in various areas, including registration and reporting requirements, safeguarding of funds and securities, standards for restrictive legends, and cybersecurity. Additionally, the Release generally seeks comment on a broad range of topics in the transfer agent space, including the processing of book entry securities, recordkeeping for beneficial owners, administration of issuer plans, and the role of transfer agents to mutual funds and crowdfunding. The Release originally provided that comments must be received by February 29, 2016. The Commission has received requests to extend the comment period.² The Commission believes that extending the comment period would be appropriate in order to provide the public additional time to consider and comment on the issues addressed in the Release. Therefore, the Commission is extending the public comment period for 45 days, until April 14, 2016.

¹ Securities Exchange Act Release No. 76743 (December 22, 2015), 80 FR 81948 (December 31, 2015).

² See letters from Todd May, President, Securities Transfer Association, dated January 7, 2016; Martin McHale, President, U.S. Equity Services, Computershare, dated January 15, 2016; Cristeena G. Naser, Vice President and Senior Counsel, Center for Securities, Trust & Investment of the American Bankers Association, dated January 22, 2015; Alvin Santiago, President, Shareholder Services Association, dated January 27, 2016; Thomas F. Price, Manager Director, Securities Industry and Financial Markets Association, dated February 2, 2016.

By the Commission.
Dated: February 18, 2016.
Brent J. Fields,
Secretary.

[FR Doc. 2016-03733 Filed 2-22-16; 8:45 am]

BILLING CODE 8011-01-P